DEPARTMENT OF THE INTERIOR

Bureau of Land Management

[UT-920-05-1320-EL, UTU-82202]

Notice of Invitation To Participate in Coal Exploration License, Utah

AGENCY: Bureau of Land Management, Interior.

ACTION: Notice of invitation to participate in Coal Exploration License.

SUMMARY: Pursuant to section 2(b) of the Mineral Leasing Act of 1920, as amended by section 4 of the Federal Coal Leasing Amendments Act of 1976, 90 Stat. 1083, 30 U.S.C. 201(b), and to the regulations adopted as 43 CFR 3410, all interested qualified parties, as provided in 43 CFR 3472.1, are hereby invited to participate with Ark Land Company on a pro rata cost sharing basis in its program for the exploration of coal deposits owned by the United States of America in the Muddy Canyon Area in the following-described lands of Sanpete and Sevier Counties, Utah:

T. 20 S., R. 5 E., SLM, Utah

Sec. 30, S½SE¼, SE¼SW¼;

Sec. 31, E½, E½W½;

Sec. 32, NW, N½SW¼;

Containing 840.00 acres.

All of the coal in the above-described land consists of unleased Federal coal within the Uinta-Southwestern Utah Known Coal Production Area. The purpose of the exploration program is to obtain coal quality data to supplement data from previous adjacent coal exploration programs. The proposed exploration program is fully described and will be conducted pursuant to an exploration plan to be approved by the Bureau of Land Management (BLM).

ADDRESSES: Copies of the exploration plan are available for review during normal business hours (serialized under the number of UTU 82202) in the public room of the BLM State Office, 440 West 200 South, Suite 500, Salt Lake City, Utah. The written notice to participate in the exploration program should be sent to both the BLM, Utah State Office, P.O. Box 45155, Salt Lake City, Utah 84145, and to Mark Bunnell, Mine Geologist, Canyon Fuel Company, LLC, Skyline Mine, HC 35 Box 380, Helper, Utah 84526.

FOR FURTHER INFORMATION CONTACT: Bill Buge, Salt Lake City, Bureau of Land Management, (801) 539-4086.

SUPPLEMENTARY INFORMATION: This notice of invitation to participate has been published in the Mt. Pleasant Pyramid and the Richfield Reaper, once each week for two consecutive weeks beginning the week of March 10, 2005, and in the Federal Register. Any party electing to participate in this exploration program must send written notice to both the BLM and Ark Land Company, as provided in the ADDRESSES section above, no later than thirty days after publication of this invitation in the Federal Register.

The foregoing is published in the Federal Register pursuant to 43 CFR 3410.2-1(c)(1).

Dated: May 18, 2005.
Kent Hoffman,
Deputy State Director, Lands and Minerals.

[FR Doc. 05-13874 Filed 7-13-05; 8:45 am]

BILLING CODE 4310-DK-P